NUCLEAR REGULATORY COMMISSION

Technical Specification Improvement To Revise Diesel Fuel Oil Testing Program Using the Consolidated Line Item Improvement Process

AGENCY: Nuclear Regulatory Commission.

ACTION: Notice of availability.

SUMMARY: Notice is hereby given that the staff of the Nuclear Regulatory Commission (NRC) has prepared a model Application related to changes to the Diesel Fuel Oil Testing Programs. The changes relocate references to specific American Society for Testing and Materials (ASTM) standards for fuel oil testing to licensee-controlled documents and adds alternate criteria to the “clear and bright” acceptance test for new fuel oil. The NRC staff has also prepared a model safety evaluation (SE) and no significant hazards consideration (NSHC) determination relating to this matter. The purpose of these models is to permit the NRC to efficiently process amendments that propose to adopt the associated changes into plant-specific technical specifications (TS). Licensees of nuclear power reactors to which the models apply could request amendments confirming the applicability of the SE and NSHC determination to their reactors.

DATES: The NRC staff issued a Federal Register Notice (71 FR 9179, February 22, 2006) that provided a model SE and a model NSHC determination relating to changes to the Diesel Fuel Oil Testing Programs. The NRC staff hereby announces that the model SE and NSHC determination may be referenced in plant-specific applications to adopt the changes. The staff has posted a model application on the NRC Web site to assist licensees in using the consolidated line item improvement process (CLIIP) to revise TS Diesel Fuel Oil Testing Programs. The NRC staff can most efficiently consider applications based upon the model application if the application is submitted within one year of this Federal Register Notice.

FOR FURTHER INFORMATION CONTACT: Peter C. Hearn, Mail Stop: O12H2, Division of Inspection and Regional Support, Office of Nuclear Reactor Regulation, U.S. Nuclear Regulatory Commission, Washington, DC 20555-0001, telephone 301-415-1189.

SUPPLEMENTARY INFORMATION: Regulatory Issue Summary 2000-06, “Consolidated Line Item Improvement Process for Adopting Standard Technical Specification Changes for Power Reactors,” was issued on March 20, 2000. The CLIIP includes an opportunity for the public to comment on proposed changes to operating licenses, including the technical specifications (TS), after a preliminary assessment by the NRC staff and a finding that the change will likely be offered for adoption by licensees. The CLIIP directs the NRC staff to evaluate any comments received for a proposed generic change to operating licenses and to either reconsider the change or to proceed with announcing the availability of the change for proposed adoption by licensees. Those licensees opting to apply for the subject change to operating licenses are responsible for reviewing the NRC staff's evaluation, referencing the applicable technical justifications, and providing any necessary plant-specific information. Each amendment application made in response to the notice of availability will be processed and noticed in accordance with applicable rules and NRC procedures. This notice involves changes to the Diesel Fuel Oil Testing Programs.

Applicability: This proposed change to the standard technical specifications (STS) was submitted by the Technical Specifications Task Force (TSTF) in TSTF-374, “Revision to TS 5.5.13 and Associated TS Bases for Diesel Fuel Oil,” and is applicable to all nuclear power reactors.

This proposal to modify technical specification requirements by the adoption of TSTF-374 is applicable to all licensees of Combustion Engineering, Babcock & Wilcox, Westinghouse Pressurized Water Reactors, and General Electric Boiling Water Reactors who have adopted or will adopt in conjunction with the change, technical specification requirements for a Bases control program consistent with the TS Bases Control Program described in Section 5.5 of the STS. Licensees that have not adopted requirements for a Bases control program by converting to the improved STS or by other means, are requested to include the requirements for a Bases control program consistent with the STS in their application for the change. The need for a Bases control program stems from the need for adequate regulatory control of some key elements of the proposal that are contained in the Bases upon adoption of TSTF-374. The staff is requesting that the Bases changes be included with the proposed license amendments consistent with the Bases in TSTF-374. To ensure that the overall change, including the Bases, includes appropriate regulatory controls, the staff plans to condition the issuance of each license amendment on the licensee's incorporation of the changes into the Bases document and on requiring the licensee to control the changes in accordance with the Bases Control Program.

To efficiently process the incoming license amendment applications, the NRC staff requests that each license applying for the changes addressed in TSTF-374 use the CLIIP to submit an application that adheres to the following model. Any deviations from the model application should be explained in the licensee's submittal.

The CLIIP does not prevent licensees from requesting an alternate approach or proposing changes other than those proposed in TSTF-374. Variations from the approach recommended in this notice may, however, require additional review by the NRC staff and may increase the time and resources needed for the review. Significant variations from the approach, or inclusion of additional changes to the license, will result in staff rejection of the submittal. Instead, licensees desiring significant variations and/or additional changes should submit a LAR that does not claim to adopt TSTF-374.

Public Notices: In a Federal Register Notice dated February 22, 2006 (71 FRN 9179), the NRC staff requested comment on the use of the CLIIP to process requests to adopt the TSTF-374 changes. In addition, there have been multiple notices published for plant-specific amendment requests to adopt changes similar to those described in this notice.

The NRC staff's model SE and model application may be examined, and/or copied for a fee, at the NRC's Public Document Room, located at One White Flint North, 11555 Rockville Pike (first floor), Rockville, Maryland. Publicly available records are accessible electronically from the Agencywide Documents Access and Management System (ADAMS) Public Library component on the NRC Web site, (the Electronic Reading Room).

The NRC staff received no responses following the notice published February 22, 2006 (71 FRN 9179), soliciting comments on the model SE and NSHC determination related to the TSTF-374 changes. The NRC staff finds that the previously published models remain appropriate references and has chosen not to republish the model SE and model NSHC determination in this notice. As described in the model application prepared by the NRC staff, licensees may reference in their plant-specific applications to adopt the TSTF-374 changes, the model SE, NSHC determination, and environmental assessment previously published in the Federal Register (71 FRN 9179); February 22, 2006).

Dated at Rockville, Maryland, this 14th day of April 2006.
For the Nuclear Regulatory Commission.
Thomas H. Boyce,
Chief, Technical Specifications Branch, Division of Inspection and Regional Support, Office of Nuclear Reactor Regulation.

[FR Doc. E6-6001 Filed 4-20-06; 8:45 am]

BILLING CODE 7590-01-P